DEPARTMENT OF TRANSPORTATION

Federal Aviation Administration

Fourth Meeting, Special Committee 213/EUROCAE: Enhanced Flight Vision Systems/Synthetic Vision Systems (EFVS/SVS), EUROCAE Working Group 79 (WG-79)

AGENCY: Federal Aviation Administration (FAA), DOT.

ACTION: Notice of RTCA Special Committee 213/EUROCAE, Enhanced Flight Vision Systems/Synthetic Vision Systems (EFVS/SVS), EUROCAE Working Group 79 (WG-79).

SUMMARY: The FAA is issuing this notice to advise the public of a third meeting of RTCA Special Committee 213, Standards for Air Traffic Data Communication Services.

DATES: The meeting will be held April 28-30, 2009 from 9 a.m.-5 p.m.

ADDRESSES: The meeting will be held at Cologne, Germany (EASA HQ), Ottoplatz 1, D-50679 Cologne, Germany, Tel.: +49 (0)221 8999 0000, http://www.easa.eu.int.

SUPPLEMENTARY INFORMATION: Pursuant to section 10(a)(2) of the Federal Advisory Committee Act (Pub. L. 92-463, 5 U.S.C., Appendix 2), notice is hereby given for a Special Committee 213 meeting. The agenda will include:

28 April

• Plenary (Welcome, Introductions, Review Agenda and Objectives),

• Plenary briefings,

• Plenary work group updates, action item review, LED lighting, SC-217 requirements discussion for aerodrome mapping,

• Separate work group 1 and work group 2 discussions.

29 April

• Separate work group 1 and 2 discussions,

• Plenary discussion.

30 April

• Separate work group 1 and 2 discussions,

• Plenary discussion,

• Summarize work group discussions,

• Review action items,

• Approve committee requirements submittal to SC-217,

• Administrative.

Attendance is open to the interested public but limited to space availability. With the approval of the chairmen, members of the public may present oral statements at the meeting. Persons wishing to present statements or obtain information should contact the person listed in the “FOR FURTHER INFORMATION CONTACT” section. Members of the public may present a written statement to the committee at any time.

Issued in Washington, DC, on March 23, 2009.
Francisco Estrada C.,
RTCA Advisory Committee.

[FR Doc. E9-6992 Filed 3-27-09; 8:45 am]

BILLING CODE 4910-13-P